DEPARTMENT OF AGRICULTURE

Office of the Secretary

7 CFR Part 20

Export Sales Reporting Requirements

AGENCY: Office of the Secretary, USDA.

ACTION: Final rule.

SUMMARY: This final rule amends the Export Sales Reporting Regulation to clarify certain agency interpretations relating to reporting obligations; adopts provisions incorporating new reporting technologies; and extends the time for submitting weekly reports. These changes will simplify the reporting requirements and ensure the accuracy of U.S. export sales reporting.

EFFECTIVE DATE: December 3, 2003.

FOR FURTHER INFORMATION CONTACT: Tim Rocke, Marketing Operations Staff, Stop 1025, U.S. Department of Agriculture, 1400 Independence Avenue, SW., Washington, DC 20250-1025, or telephone at (202) 720-3274, or e-mail at Tim.Rocke@fas.usda.gov.

SUPPLEMENTARY INFORMATION:

Executive Order 12372

This program is not subject to the provision of Executive Order 12372, which requires intergovernmental consultation with State or local officials (See notice related to 7 CFR part 3015, subpart V, published at 48 FR 29115, June 24, 1983).

Executive Order 12988

This final rule has been reviewed under Executive Order 12988. The provisions of this final rule will have preemptive effect with respect to any state or local laws, regulations, or policies which conflict with such provisions or which otherwise impede their full implementation. This final rule will not have retroactive effect. Administrative proceedings are not required before parties may seek judicial review.

Executive Order 12866

This final rule is issued in conformance with Executive Order 12866. It has been determined not significant by the Office of Management and Budget (OMB).

Regulatory Flexibility Act

This final rule should not have a significant economic impact on a substantial number of small entities. The time and expense of complying with this final rule is negligible. Data required under the final rule are routinely maintained during the normal course of export sales contracting business activity and changes made by this rule should ease any present reporting burdens. A copy of this final rule has been sent to the Chief Counsel, Office of Advocacy, U.S. Small Business Administration.

Paperwork Reduction Act

This final rule does not impose any new reporting or record keeping requirements. The Department uses forms FAS-97, FAS-98, FAS-99, FAS-100, and an electronic reporting system for the collection of information. OMB has assigned control number 0551-0007 to these forms and has approved current collection through July 31, 2004. Copies of the information collection may be obtained from Kimberly Chisley, the Agency Information Collection Coordinator, at (202) 720-2568 or e-mail at Kimberly.Chisley@fas.usda.gov.

Background

Section 602 of the Agricultural Trade Act of 1978, as amended, requires the reporting of information pertaining to contracts for export sale of certain specified agricultural commodities and other commodities that may be designated by the Secretary. In accordance with Sec. 602, individual weekly reports submitted shall remain confidential and shall be compiled and published in compilation form each week following the week of reporting. Any person who knowingly fails to make a report shall be fined not more than $25,000 or imprisoned for not more than one year, or both. Regulations at 7 CFR part 20 implement the reporting requirements, and prescribe a system for reporting information pertaining to contracts for export sales.

Section 913(b)(1) of Public Law 106-78 requires implementation of an electronic system for reporting export sales information regarding beef. On October 11, 2001, the Department published a notice in the Federal Register, 66 FR 51922, requesting comments on an electronic reporting system that would be applicable to beef and all other commodities subject to the export sales reporting regulations. FAS received 15 comments, and all responses were in favor of electronic reporting. In response to specific suggestions in the comments: FAS has developed a function that will allow the user to view and print the information submitted electronically; in the event of technical difficulties, FAS will continue to accept alternative means of submitting reports; and a user ID, password and user manual will be mailed to each participating export firm. In addition, the user manual will be available on the ESR Online Web site: https://ww2.fas.usda.gov/esr_rpt.

FAS will proceed to adopt the electronic reporting system as described in the October 11, 2001, Federal Register document. Additionally, exporters will have the option to satisfy their export sales reporting obligation represented by forms FAS-97, FAS-98, and FAS-100 through e-mail submission of ASCII comma delimited files. This may be of special significance to beef exporters that are required to report marketing of beef to the Agricultural Marketing Service (AMS) pursuant to 7 CFR part 59 (Livestock Mandatory Reporting).

This final rule also changes the time that weekly reports must be received by FAS from 5 p.m. each Monday to 11:59 p.m. Monday, thereby giving exporters more time to submit the weekly report; specifies that information from daily reports will be made available to the public at 9 a.m. daily; and makes other non-substantive changes.

List of Subjects in 7 CFR Part 20

Agricultural commodities, Exports, Reporting and recordkeeping requirements.

Accordingly, for the reasons set forth in the preamble, 7 CFR part 20 is amended as follows:

PART 20—EXPORT SALES REPORTING REQUIREMENTS

1. The authority citation for part 20 continues to read as follows:

Authority: 7 U.S.C. 5712.

2. Section 20.4 is amended by revising the first sentence of paragraph (c), revising the last sentence of paragraph (d), and revising paragraph (g) to read as follows:

§ 20.4 Definitions.

* * * * *

(c) Commodity. Wheat and wheat flour, feed grains, oilseeds, cotton, rice, cattle hides and skins, beef, and any products thereof, and any other agricultural commodity the Secretary may designate. * * *

(d) * * * Country of destination shall be the ultimate destination of the export, and shall not be deemed to be the country through which any transshipment takes place.

* * * * *

(g) Exports for exporter's own account. A transaction involving shipments made by the reporting exporter which are unsold at the time of export, shipments on consignment to selling agents of the reporting exporter for subsequent sale for the account of the reporting exporter, shipments by the reporting exporter that have not been allocated to any outstanding export sale, and shipments from the United States to any foreign country in bond for subsequent shipment to a third country.

* * * * *

§ 20.5 [Amended]

3. Section 20.5 is amended by removing the phrase “and ticker” after “press” in the second and third sentence.

4. Section 20.6 is amended by removing the third and fourth sentences of paragraph (a) introductory text and adding five sentences in their place, adding the word “new” before “export” in the first sentence of each of paragraph (a)(1)(ii), (a)(2)(ii), and (a)(3)(ii), revising the first sentence of paragraph (k)(1), and revising the first sentence of paragraph (k)(2) to read as follows.

§ 20.6 Submission of reports.

(a) * * * If the reporting exporter determines that the report forms cannot be received in the office specified in “20.10 by the time specified in paragraph (k) of this section, the exporter shall transmit the information contained in the report forms by the use of FAX, telephone, or electronic submission. The required form must be subsequently submitted in accordance with § 20.6(k)(2). Exporters have the option to submit the weekly reports using an electronic reporting system (forms 97e, 98e, and 100e) which may be accessed via a secured Internet website. Reporting exporters should contact the Export Sales Reporting staff to obtain passwords and access to the Internet reporting site. Exporters also have the option of satisfying the requirements of Forms FAS-97, FAS-98, and FAS-100 by submitting ASCII comma delimited files via e-mail to the ESR mailbox at esr@fas.usda.gov.

* * * * *

(k) Manner and time of reporting—(1) Manner. An original of all report forms, other than electronic forms and ASCII comma delimited files, must be filed with the office specified in § 20.10. * * *

(2) Time of filing reports. Information required to be reported weekly (either via fax, telephone, or electronically) must be received in the office specified in § 20.10 no later than 11:59 p.m. eastern time, on each Monday or such other time as may be approved in advance by that office. * * *

5. Section 20.7 is amended by revising the third sentence of the paragraph to read as follows:

§ 20.7 Confidentiality of reports.

* * * Information from daily reports filed by exporters will be made available to the public on the following business day at 9 a.m., eastern time. * * *

§ 20.10 [Amended]

6. Section 20.10 is amended by adding the phrase “FAX: (202) 690-3270 or (202) 690-3273” after “office”.

Signed at Washington, DC, on October 22, 2003.
A. Ellen Terpstra,
Administrator, Foreign Agricultural Service.

[FR Doc. 03-27590 Filed 10-31-03; 8:45 am]

BILLING CODE 3410-10-P